DEPARTMENT OF THE INTERIOR

Bureau of Land Management

[LLORW00000.L11600000.DF0000.LXSSH1080000.223L1109AF; BLM_OR_FRN_MO4500170288]

Notice of Public Meetings for the San Juan Islands National Monument Advisory Committee, Washington

AGENCY: Bureau of Land Management, Interior.

ACTION: Notice of public meetings.

SUMMARY: In accordance with the Federal Land Policy and Management Act and the Federal Advisory Committee Act, the U.S. Department of the Interior, Bureau of Land Management's (BLM) San Juan Islands National Monument Advisory Committee (MAC) will meet as follows.

DATES: The MAC will hold public meetings Wednesday, September 27, 2023, and Thursday, December 7, 2023. Both meetings will be held from 9 a.m. to 3 p.m. Pacific Time (PT) virtually on the Zoom platform. Public comment periods will be offered at both meetings from 12:30 until 1:30 p.m. PT.

ADDRESSES: The Zoom meeting information and instructions will be posted on the MAC's web page at https://www.blm.gov/get-involved/resource-advisory-council/near-you/oregon-washington/san-juan-islands-mac at least 2 weeks prior to each meeting and on the press release that goes out 1 week prior to each meeting.

The public may send written comments to the MAC at BLM Spokane District, Attn. MAC, 1103 N. Fancher, Spokane Valley, WA 99212.

FOR FURTHER INFORMATION CONTACT: Brie Chartier, Monument Manager, 650 Mullis St. Suite 100, Friday Harbor, WA 98250, (509) 220-5976, or bchartier@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The San Juan Islands MAC is comprised of 12 members representing a wide array of interests, including recreation, Tribal interests, education, environmental organizations, and landowners.

The September meeting will begin with a welcome of MAC members. After introductions, members will review the Record of Decision for the new Resource Management Plan for the San Juan Islands National Monument. Discussion and review will continue until a working lunch at noon. The next topic will be to consider opportunities for the MAC to support implementation of the management plan. The MAC will adjourn no later than 3 p.m. PT. All MAC meetings are open to the public. Tribal and government representatives will be given the opportunity to speak before the public comment period. At 12:30 p.m. PT, members of the public will have the opportunity to make comments to the MAC during a 1-hour public comment period. Persons wishing to make comments during the public comment period will be called upon by the MAC Chair. Depending on the number of persons wishing to comment, the length of comments may be limited.

The December meeting will begin at 9 a.m. PT with welcomes and introductions. After introductions, members will review possible implementation projects that the MAC can assist with and prioritize items for the BLM. This discussion and review will continue through a working lunch at noon. The MAC will adjourn no later than 3 p.m. PT. All MAC meetings are open to the public. Tribal and government representatives will be given the opportunity to speak before the public comment period. At 12:30 p.m. PT members of the public will have the opportunity to make comments to the MAC during a 1-hour public comment period. Persons wishing to make comments during the public comment period will be called upon by the MAC Chair. Depending on the number of persons wishing to comment, the length of comments may be limited.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Before including your address, phone number, email address, or other personal identifying information in your comment, please be aware that your entire comment including your personally identifying information—may be made publicly available at any time. While individuals may request their personally identifying information to be withheld from public view, we cannot guarantee that we will be able to do so.

(Authority: 43 CFR 1784.4-2.)

Kurt Pindel,
Spokane District Manager.

[FR Doc. 2023-10862 Filed 5-19-23; 8:45 am]

BILLING CODE 4331-24-P